DEPARTMENT OF HEALTH AND HUMAN SERVICES

Administration for Children and Families

Proposed Information Collection Activity; Survey of Staff Recruitment, Training, and Professional Development in Early Head Start (New Collection)

AGENCY: Office of Planning, Research, and Evaluation, Administration for Children and Families, U.S. Department of Health and Human Services.

ACTION: Request for public comments.

SUMMARY: The Administration for Children & Families (ACF) at the U.S. Department of Health and Human Services (HHS) seeks approval to conduct a nationally representative survey of Early Head Start (EHS) grant recipients regarding their recruitment, hiring, and professional development practices.

DATES: Comments due within 60 days of publication. In compliance with the requirements of the Paperwork Reduction Act of 1995, the ACF is soliciting public comment on the specific aspects of the information collection described above.

ADDRESSES: You can obtain copies of the proposed collection of information and submit comments by emailing OPREinfocollection@acf.hhs.gov. Identify all requests by the title of the information collection.

SUPPLEMENTARY INFORMATION:

Description: The Survey of Staff Recruitment, Training, and Professional Development in EHS is a nationally representative survey that will describe how EHS programs ensure staff have the qualifications and competencies to deliver high-quality services to infants, toddlers, and their families. The information collection will examine how EHS grant recipients search for and hire qualified teaching and home visiting staff and support staff in their ongoing professional development and career advancement. The information collection aims to identify successful strategies or approaches as well as challenges faced as EHS programs search for, hire, and train teaching and home visiting staff. Findings are intended to inform program planning, training and technical assistance, and research.

Respondents: EHS program directors or their designee.

Annual Burden Estimates:

Instrument | Number of respondents (total over request period) | Number of responses per respondent (total over request period) | Average burden per response (in hours) | Total/annual burden (in hours)
Survey instrument for center-based programs only | 232 | 1 | .5 | 116
Survey instrument for home-based programs only | 56 | 1 | .5 | 28
Survey instrument for programs with center-based and home-based options | 312 | 1 | .75 | 234

Estimated Total Annual Burden Hours: 378.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Head Start Act section 640 [42 U.S.C. 9835].

Mary B. Jones,
ACF/OPRE Certifying Officer.

[FR Doc. 2023-26297 Filed 11-29-23; 8:45 am]

BILLING CODE 4184-22-P